SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in “DATES.”

DATES: October 1-31, 2015.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and § 806.22(f) for the time period specified above:

Rescinded ABR Issued

1. Energy Corporation of America, Pad ID: COP 325 A, ABR-201112011, Girard Township, Clearfield County, Pa.; Rescind Date: October 5, 2015.

2. Range Resources-Appalachia, LLC, Pad ID: Rupert, Elton Unit #1H Drilling Pad, ABR-201012047, Penn Township, Lycoming County, Pa.; Rescind Date: October 5, 2015.

3. EXCO Resources (PA), LLC, Pad ID: Cadwalader Pad 2A, ABR-201309006, Cogan House Township, Lycoming County, Pa.; Rescind Date: October 8, 2015.

4. EXCO Resources (PA), LLC, Pad ID: Cadwalader Pad 3, ABR-201309010, Cogan House Township, Lycoming County, Pa.; Rescind Date: October 8, 2015.

5. EXCO Resources (PA), LLC, Pad ID: Daisy Barto Unit Well Pad, ABR-201205003, Penn Township, Lycoming County, Pa.; Rescind Date: October 8, 2015.

6. EXCO Resources (PA), LLC, Pad ID: Dale Bower Pad 2, ABR-201212007, Penn Township, Lycoming County, Pa.; Rescind Date: October 8, 2015.

7. EXCO Resources (PA), LLC, Pad ID: Herring Pad 9, ABR-201012027, Graham Township, Clearfield County, Pa.; Rescind Date: October 8, 2015.

8. EXCO Resources (PA), LLC, Pad ID: Kepner Unit Well Pad, ABR-201205013, Penn Township, Lycoming County, Pa.; Rescind Date: October 8, 2015.

9. EXCO Resources (PA), LLC, Pad ID: Murray Unit Pad, ABR-201204005, Penn Township, Lycoming County, Pa.; Rescind Date: October 8, 2015.

10. EXCO Resources (PA), LLC, Pad ID: Painters Den Pad 1, ABR-201202010, Davidson Township, Sullivan County, Pa.; Rescind Date: October 8, 2015.

11. EXCO Resources (PA), LLC, Pad ID: Spotts Unit Drilling Pad 3H, 4H, 5H, 7H, 8H, 9H, ABR-201202003, Miffling Township, Lycoming County, Pa.; Rescind Date: October 8, 2015.

12. Chesapeake Appalachia, LLC, Pad ID: Bumpville, ABR-201202023, Litchfield Township, Bradford County, Pa.; Rescind Date: October 21, 2015.

13. Chesapeake Appalachia, LLC, Pad ID: CMI, ABR-201203021, Wysox Township, Bradford County, Pa.; Rescind Date: October 21, 2015.

14. Chesapeake Appalachia, LLC, Pad ID: Dr. Marone, ABR-201405007, Washington Township, Wyoming County, Pa.; Rescind Date: October 21, 2015.

15. Chesapeake Appalachia, LLC, Pad ID: Ford, ABR-201106004, Orwell Township, Bradford County, Pa.; Rescind Date: October 21, 2015.

16. Chesapeake Appalachia, LLC, Pad ID: Hare Ridge, ABR-201210001, Rush Township, Susquehanna County, Pa.; Rescind Date: October 21, 2015.

17. Chesapeake Appalachia, LLC, Pad ID: Matthews, ABR-201203018, Sheshequin Township, Bradford County, Pa.; Rescind Date: October 21, 2015.

18. Chesapeake Appalachia, LLC, Pad ID: Maurice, ABR-201204006, Herrick Township, Bradford County, Pa.; Rescind Date: October 21, 2015.

19. Chesapeake Appalachia, LLC, Pad ID: Shumhurst, ABR-201205019, Tuscarora Township, Bradford County, Pa.; Rescind Date: October 21, 2015.

20. Chesapeake Appalachia, LLC, Pad ID: Simplex, ABR-201204011, Standing Stone Township, Bradford County, Pa.; Rescind Date: October 21, 2015.

21. Chesapeake Appalachia, LLC, Pad ID: Whitney, ABR-201208006, Rush Township, Susquehanna County, Pa.; Rescind Date: October 21, 2015.

Authority: Pub. L. 91-575, 84 Stat. 1509 et seq., 18 CFR parts 806, 807, and 808.

Dated: November 23, 2015.
Stephanie L. Richardson,
Secretary to the Commission.

[FR Doc. 2015-30231 Filed 11-27-15; 8:45 am]

BILLING CODE 7040-01-P